DEPARTMENT OF THE INTERIOR

National Park Service

[NPS-SER-FOPU-07794; 5017-7187-409]

Draft Environmental Impact Statement for General Management Plan, Fort Pulaski National Monument, GA

AGENCY: National Park Service, Interior.

ACTION: Notice of Availability of the Draft General Management Plan, Wilderness Study, and Environmental Impact Statement.

SUMMARY: Pursuant to the National Environmental Policy Act of 1969, 42 U.S.C. 4332(2)(C), the National Park Service (NPS) announces the availability of a Draft Environmental Impact Statement (DEIS) for the General Management Plan (GMP) and Wilderness Study for Fort Pulaski National Monument (monument).

Consistent with NPS laws, regulations, and policies and the purpose of the monument, the DEIS/GMP/Wilderness Study describes three alternatives including the NPS preferred alternative—Alternative B—to guide the management of the monument over the next 15 to 20 years. The preferred alternative incorporates various management prescriptions to ensure protection, access and enjoyment of the monument's resources.

An up-to-date GMP is needed to address how visitors access and use the monument and the facilities needed to support those uses, how resources are managed, and how the NPS manages its operations. Recent studies have enhanced the NPS's understanding of resources, resource threats, and visitor use in the monument.

DATES: The NPS will accept comments from the public on the DEIS/GMP for at least 60 days, starting from the date the Environmental Protection Agency publishes the Notice of Availability and ending 3 to 4 weeks after public meetings conclude. The date, time, and location of the public meetings will be announced through the NPS Planning, Environment, and Public Comment (PEPC) Web site: http://parkplanning.nps.gov/FOPU and media outlets.

ADDRESSES: Electronic copies of the draft DEIS/GMP/Wilderness Study will be available online at http://parkplanning.nps.gov/FOPU. To request a copy, contact Fort Pulaski National Monument, Superintendent Randy Wester, P.O. Box 30757, Highway 80 East, Savannah, GA 31410-0757. A limited number of compact disks and printed copies of the DEIS/GMP will be made available at Fort Pulaski National Monument headquarters, P.O. Box 30757, Highway 80 East, Savannah, GA 31410-0757.

Comments may be submitted by several methods. The preferred method is commenting via the Internet on the PEPC Web site, http://parkplanning.nps.gov/FOPU. An electronic public comment form is provided on this Web site. You may also mail comments to Superintendent, P.O. Box 30757, Highway 80 East, Savannah, GA 31410-0757. Finally, you may hand-deliver comments to the monument. Before including your address, phone number, email address, or other personal identifying information in your comment, please be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

SUPPLEMENTARY INFORMATION: Public meetings, newsletters, and Internet updates have kept the public informed and involved throughout the planning process. The DEIS/GMP/Wilderness study provides a framework for management, use, and development of the monument for the next 15 to 20 years. It presents and analyzes three alternatives: Alternative A (no action) provides a baseline for evaluating changes and impacts of the three action alternatives. Alternative B would focus management on the April 1862 period of significance in terms of the landscape and interpretive programs. This alternative includes landscape restoration and interpretation of the construction village. Alternative B is the NPS Preferred Alternative. The concept for management under alternative C is to manage the monument with a much broader interpretive mandate than in Alternative B to include a wider range of themes and historic periods as well as natural resource themes. The three alternatives are described in detail in chapter 2 of the draft plan. The key impacts of implementing the three alternatives are detailed in chapter 4 and summarized in chapter 2.

Authority: The authority for publishing this notice is contained in 40 CFR 1506.6.

FOR FURTHER INFORMATION CONTACT: Superintendent Randy Wester, P.O. Box 30757, Highway 80 East, Savannah, GA 31410-0757 or telephone at (912) 786-5787.

The responsible official for this Draft EIS is the Regional Director, NPS Southeast Region, 100 Alabama Street SW., 1924 Building, Atlanta, Georgia 30303.

Dated: May 16, 2012.
Gordon Wissinger,
Acting Regional Director, Southeast Region.

[FR Doc. 2012-12398 Filed 5-21-12; 8:45 am]

BILLING CODE 4310-5L-P